DEPARTMENT OF ENERGY

Federal Energy Regulatory Commission

[Docket No. CP17-471-000]

Paiute Pipeline Company; Notice of Schedule for Environmental Review of the 2018 Expansion Project

On July 5, 2017, Paiute Pipeline Company (Paiute) filed an application in Docket No. CP17-471-000 requesting a Certificate of Public Convenience and Necessity pursuant to Sections 7(b) and (c) of the Natural Gas Act to abandon and construct certain natural gas pipeline facilities. The proposed project is known as the 2018 Expansion Project (Project), and would provide 4,604 dekatherms per day (Dth/d) of new transportation capacity, and shift an additional 1,031 Dth/d of current transportation capacity to a delivery point further downstream.

On July 19, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—November 27, 2017.

90-day Federal Authorization Decision Deadline—February 25, 2018.

If a schedule change becomes necessary, additional notice will be provided so that the relevant agencies are kept informed of the Project's progress.

Project Description

The Project would involve construction and replacement of approximately 8.46 miles of pipeline to upsize or loop four segments of Paiute's Carson and South Tahoe Laterals in Douglas and Lyon Counties and Carson City, Nevada. For the two segments where pipeline would be replaced, portions of the existing pipeline would be abandoned in-place and by removal.

Background

On January 26, 2017, the Commission issued a Notice of Intent to Prepare an Environmental Assessment for the Planned 2018 Expansion Project and Request for Comments on Environmental Issues (NOI). The NOI was issued during the pre-filing review of the Project in Docket No. PF17-2 and was sent to affected landowners; federal, state, and local government agencies; elected officials; environmental and public interest groups; Native American tribes; other interested parties; and local libraries and newspapers. In response to the NOI, the Commission received a total of four comment letters from the U.S. Army Corps of Engineers, the Nevada State Clearinghouse, the Teamsters National Pipeline Training Fund, and one individual. The scoping comments pertained to permitting and consultation processes, information on union pipeline contractors, potential effects on the Carson River and other state of Nevada properties, air quality (dust), and stormwater drainage.

The Bureau of Land Management and the Consolidated Municipality of Carson City, Nevada are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP17-471), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: October 17, 2017.
Kimberly D. Bose,
Secretary.

[FR Doc. 2017-22918 Filed 10-20-17; 8:45 am]

BILLING CODE 6717-01-P